GENERAL SERVICES ADMINISTRATION

[Notice-PBS-2024-11; Docket No. 2024-0002; Sequence No. 38]

Notice of Availability for the Record of Decision on the Buildings at 202, 214 and 220 South State Street, Chicago, Illinois

AGENCY: Great Lakes Region 5, Public Buildings Service (PBS), U.S. General Services Administration (GSA).

ACTION: Notice of availability (NOA).

SUMMARY: On September 4, 2024, The U.S. General Services Administration (GSA), in cooperation with the U.S. Federal Protective Service, issued a Record of Decision (ROD) on the Final Environmental Impact Statement (EIS) for the future of three vacant federally owned buildings located at 202, 214, and 220 South State Street in downtown Chicago, Illinois. These properties are adjacent to the Dirksen U.S. Courthouse. GSA selects the Viable Adaptive Reuse Alternative, and the agency will pursue reuse under the National Historic Preservation Act (NHPA) section 111 outlease authority. The Viable Adaptive Reuse Alternative meets the purpose and need for the Proposed Action upon satisfying the security needs of the Dirksen Courthouse. GSA will issue a Request for Lease Proposals (RLP) in Fall 2024. The ROD was prepared in accordance with the National Environmental Policy Act (NEPA) of 1969, the Council on Environmental Quality Regulations, and the GSA Public Buildings Service NEPA Desk Guide. It documents the agency's decision based on the Final EIS; associated technical reports; comments from Federal and State agencies, stakeholders, members of the public, and elected officials; and other resources contained in the administrative record.

DATES: Applicable: September 4, 2024.

ADDRESSES: The ROD may be found online at the following website: https://www.gsa.gov/about-us/gsa-regions/region-5-great-lakes/buildings-and-facilities/illinois/chicago-202220-s-state-st-fps.

FOR FURTHER INFORMATION CONTACT: Joseph Mulligan, GSA Project Manager, via

• Email: statestreet@gsa.gov

• Cell: 312-886-9593

• Mail: ATTN: Joseph Mulligan, U.S. General Services Administration, 230 S Dearborn St., Suite 3600, Chicago, IL 60604

SUPPLEMENTARY INFORMATION:

Proposed Action

The Proposed Action is to address the future of the three vacant buildings at 202, 214 and 220 South State Street, east of the Dirksen Courthouse. The purpose of the Proposed Action is to address the security needs of the Dirksen Courthouse, respond to the Congressional intent and funding authorization provided in the 2022 Consolidated Appropriations Act, and manage Federal assets.

Decision

GSA selects the Viable Adaptive Reuse Alternative.

GSA will use the NHPA Section 111 outlease authority to initiate the reuse strategy. GSA will request market-driven redevelopment proposals with the following considerations:

• First, GSA will consider and prioritize proposals that align with the viable adaptive reuse security criteria established for this proposed action and demonstrate the financial capability of the offeror to successfully execute.

• Second, GSA will consider proposals with proposed deviations from the viable adaptive reuse security criteria that demonstrate the financial capability of the offeror to successfully execute. Any proposed deviation must be agreed to by GSA. There are no Federal funds available for reuse or proposed deviations from the security criteria.

• The RLP will allow for redevelopment of all buildings and parcels at 202 through 220 South State Street or one, two, or all three buildings.

• The RLP will require the offeror to demonstrate their expertise in historic preservation to successfully execute the reuse project as stated in the Programmatic Agreement.

• No Federal funds are available for the rehabilitation, preservation, or restoration of 202, 214, and 220 South State Street; therefore, any rehabilitation or modification of the buildings to meet the security criteria would not be performed at the Federal Government's expense.

GSA may amend this Record of Decision if no RLP responses are received or accepted by GSA.

National Historic Preservation Act

The NHPA section 106 Consultation was concurrent with the NEPA process. The Century Building (202 South State Street) and the Consumers Building (220 South State Street) are historic resources contributing to the Loop Retail Historic District, which are listed in the National Register of Historic Places (NRHP). In this Proposed Action, 214 South State Street is being treated as eligible for listing in the NRHP as a contributing resource to the Loop Retail Historic District. GSA executed the Programmatic Agreement with the Illinois State Historic Preservation Officer and Advisory Council on Historic Preservation on August 26, 2024. The Programmatic Agreement is included as Exhibit A in the ROD.

William Renner,
Director, Facilities Management and Services Programs Division, Great Lakes Region 5, U.S. General Services Administration.

[FR Doc. 2024-20439 Filed 9-10-24; 8:45 am]

BILLING CODE 6820-CF-P